DEPARTMENT OF COMMERCE

National Telecommunications and Information Administration

47 CFR Part 301

[Docket No. 100910444-0444-01]

RIN 0660-AA23

Removal of Regulations That Implement and Administer a Coupon Program for Digital-to-Analog Converter Boxes

AGENCY: National Telecommunications and Information Administration, U.S. Department of Commerce.

ACTION: Final rule.

SUMMARY: The National Telecommunications and Information Administration (NTIA) issues this final rule to remove its regulations to implement and administer the Digital-to-Analog Converter Box Program (Coupon Program). The regulations implemented provisions of section 3005 of the Digital Television Transition and Public Safety Act of 2005, as subsequently amended. The final coupons were issued on August 12, 2009, and expired on November 9, 2009. NTIA is removing its regulations because the Coupon Program is closed and the regulations are now obsolete.

DATES: This rule becomes effective on November 9, 2010.

FOR FURTHER INFORMATION CONTACT: Milton Brown, Deputy Chief Counsel, National Telecommunications and Information Administration, U.S. Department of Commerce, 1401 Constitution Avenue, NW., Room 4713, Washington, DC 20230; telephone: (202) 482-1816; facsimile: (202) 501-8013; or electronic mail: mbrown@ntia.doc.gov.

I. Background Information

The Digital Television Transition and Public Safety Act of 2005 (the Act), Public Law 109-171, as amended by the DTV Delay Act, Public Law 111-4, directed the Federal Communications Commission (FCC) to require full-power television stations to cease analog broadcasting and to broadcast solely digital transmissions after June 12, 2009.¹ The returned analog television spectrum was auctioned and proceeds were deposited into the Digital Television Transition and Public Safety Fund (the Fund).²

¹ See Title III of the Deficit Reduction Act of 2005, Public Law 109-171, 120 Stat. 4, 21 (Feb. 8, 2006), amended by the DTV Delay Act, Public Law 111-4, 123 Stat. 112 (Feb. 11, 2009).

² Act at § 3004, 120 Stat. at 22.

Section 3005 of the Act authorized NTIA to establish and implement the Coupon Program and provided that eligible U.S. households could obtain a maximum of two coupons of $40 each to apply toward the purchase of Coupon-Eligible Converter Boxes (CECB).³ Accordingly, on March 15, 2007, NTIA issued a final rule entitled, “Rules to Implement and Administer a Coupon Program for Digital-to-Analog Converter Boxes.” ⁴ The purpose of the program was to provide consumers who wished to continue receiving over-the-air broadcast programming on their analog-only televisions $40 coupons to offset the cost of digital-to-analog converter boxes. Consumers had the option to apply by mail, over the phone, via fax, or online. Consumers had 90 days to redeem their $40 coupon(s) at participating retailers.⁵ The converter boxes were manufactured according to NTIA minimum technical specifications based on ATSC Guidelines A/74 and 47 CFR part 73.⁶ Retailers were required to provide NTIA with redemption information and payment receipts related to coupons used in the purchase of CECBs, specifically tracking each serialized coupon by number with a corresponding CECB purchase. Participating retailers also were required to accept coupons for, and receive payment resulting from, only authorized purchases made for CECBs.⁷ The regulations required retailers to maintain sales records for one year following the sales transaction date for auditing purposes.⁸

³ Act at § 3005, 120 Stat. at 23.

⁴ 72 FR 12,097 (Mar. 15, 2007). The regulations were codified at 47 CFR part 301.

⁵ 47 CFR 301.4(e).

⁶ 72 FR 12,118-12,121 (Mar. 15, 2007).

⁷ 47 CFR 301.6(b)(2)(E)-(F).

⁸ 47 CFR 301.6(a)(5).

NTIA subsequently amended its regulations to waive the “eligible household” requirements in the regulations for individuals residing in nursing homes, intermediate care facilities, and assisted living facilities.⁹ NTIA also amended its regulations to permit otherwise eligible households to utilize post office boxes in applying for and receiving coupons.¹⁰

⁹ 47 CFR 301.7.

¹⁰ 47 CFR 301.3(a)(2); see also 73 FR 54,325, 54,333 (Sept. 19, 2008).

On March 31, 2009, NTIA amended the regulations to conform to the DTV Delay Act, which extended the deadline for the digital conversion and the coupon application period for an additional four months.¹¹ The amended regulations also permitted households to request replacement coupons, and gave NTIA flexibility in the manner in which it distributed coupons.¹²

¹¹ 74 FR 10,686 (March 12, 2009).

¹² 47 CFR 301.3(e).

II. Removal of the Regulations To Implement and Administer a Coupon Program for Digital-to-Analog Converter Boxes

Section 3005 of the Act required NTIA to issue coupons through July 31, 2009, and administer the program until the last coupon expired 90 days from issuance. The final coupons were issued on August 12, 2009, and expired on November 9, 2009. Retailers are required to maintain sales records for one year following the sales transaction date, which would be November 8, 2010. NTIA is removing its regulations because the statute no longer obligates NTIA to implement and administer the program, and after November 8, 2010, the regulations are obsolete.

Administrative Procedure Act

The Assistant Secretary for Communications and Information Administration for NTIA finds good cause under the Administrative Procedure Act, 5 U.S.C. 553(b)(B) to waive prior notice and opportunity for public comment because it is unnecessary and contrary to the public interest. This rulemaking would remove from the Code of Federal Regulations those regulations that implement provisions of section 3005 of the Act, which authorized NTIA to establish and implement a coupon program in which eligible U.S. households could obtain a maximum of two coupons of $40 each to apply toward the purchase of CECBs. The agency is taking this action because these regulations are obsolete after November 8, 2010. The Act permitted consumers to request coupons from NTIA through July 31, 2009. The final coupons were issued on August 12, 2009, and the last issued coupon expired on November 9, 2009. NTIA has fulfilled its statutory mandate to administer the Coupon Program, and is removing the regulations as they are unnecessary. If these regulations are not removed, it may suggest that the program is still active and may cause confusion regarding the status of the program.

Executive Order 12866

This rule has been determined to be not significant under Executive Order 12866.

Executive Order 13132

This rule does not contain policies with federalism implications as that term is defined in EO 13132.

Regulatory Flexibility Act

As prior notice and an opportunity for public comment are not required under 5 U.S.C. 553 or any other law, the analytical requirements of the Regulatory Flexibility Act are inapplicable. Thus, no regulatory flexibility analysis is required and none has been prepared.

Paperwork Reduction Act

This action contains no information collection requirements. Therefore, clearance by the Office of Management and Budget (OMB) under the Paperwork Reduction Act of 1995 is not required. The OMB collection numbers 0660-0026 and 0660-0027 associated with the regulations are discontinued effective November 9, 2010.

Lists of Subjects in 47 CFR Part 301

Antennas, Broadcasting, Cable television, Communications, Communications equipment, Electronic products, Telecommunications, Television.

PART 301—[REMOVED AND RESERVED]

For the reasons stated above, 47 CFR chapter III is amended by removing and reserving part 301 pursuant to authority contained in Public Law 109-171, as amended by Public Law 111-4.

Dated: September 21, 2010.
Lawrence E. Strickling,
Assistant Secretary for Communications and Information Administration.

[FR Doc. 2010-24048 Filed 9-24-10; 8:45 am]

BILLING CODE 3510-60-P